INTERNATIONAL TRADE COMMISSION

[Investigation Nos. 731-TA-847 and 849 (Fourth Review)]

Carbon and Alloy Seamless Standard, Line, and Pressure Pipe From Japan and Romania

Determination

On the basis of the record ¹ developed in the subject five-year reviews, the United States International Trade Commission (“Commission”) determines, pursuant to the Tariff Act of 1930 (“the Act”), that revocation of the existing antidumping duty order on large-diameter carbon and alloy seamless standard, line, and pressure pipe from Japan and the antidumping duty orders on small-diameter carbon and alloy seamless standard, line, and pressure pipe from Japan and Romania would be likely to lead to continuation or recurrence of material injury to an industry in the United States within a reasonably foreseeable time.

¹ The record is defined in § 207.2(f) of the Commission's Rules of Practice and Procedure (19 CFR 207.2(f)).

Background

The Commission instituted these reviews on October 3, 2022 (87 FR 59779) and determined on January 6, 2023 that it would conduct expedited reviews (88 FR 20909, April 6, 2023).

The Commission made these determinations pursuant to section 751(c) of the Act (19 U.S.C. 1675(c)). It completed and filed its determinations in these reviews on May 31, 2023. The views of the Commission are contained in USITC Publication 5427 (May 2023), entitled Carbon and Alloy Seamless Standard, Line, and Pressure Pipe from Japan and Romania: Investigation Nos. 731-TA-847 and 849 (Fourth Review).

By order of the Commission.
Issued: May 31, 2023.
Lisa Barton,
Secretary to the Commission.

[FR Doc. 2023-11929 Filed 6-5-23; 8:45 am]

BILLING CODE 7020-02-P